SECURITIES AND EXCHANGE COMMISSION

Proposed Collection; Comment Request

Upon Written Request, Copies Available From: Securities and Exchange Commission, Office of Investor Education and Advocacy, Washington, DC 20549-0213.

Extension:

Form 8-A; OMB Control No. 3235-0056; SEC File No. 270-54.

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form 8-A (17 CFR 249.208a) is a registration statement use to register a class of securities under Sections 12(b) and 12(g) of the Securities Exchange Act of 1934 (15 U.S.C. 78l(b) and 78l(g)) (“Exchange Act”). Section 12(a) (15 U.S.C. 78l(a)) of the Exchange Act requires securities traded on a national exchange to be registered under the Exchange Act (15 U.S.C. 78a et seq.). Exchange Act Section 12(b) establishes the registration procedures. Section 12(g) and Rule 12g-1 (17 CFR 240.12g-1) under the Exchange Act requires issuers engaged in interstate commerce or in a business affecting interstate commerce, that has total assets of $10,000,000 or more, and a class of equity security held or record by 500 or more persons to register that class of security. Form 8-A takes approximately 3 hours to prepare and is filed by approximately 1,170 respondents for a total of 3,510 annual burden hours.

Written comments are invited on: (a) Whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

Please direct your written comments to Thomas Bayer, Director/Chief Information Officer, Securities and Exchange Commission, c/o Remi Pavlik-Simon, 6432 General Green Way, Alexandria, Virginia 22312; or send an e-mail to: PRA_Mailbox@sec.gov.

Dated: June 16, 2011.
Cathy H. Ahn,
Deputy Secretary.

[FR Doc. 2011-15666 Filed 6-22-11; 8:45 am]

BILLING CODE 8011-01-P